FEDERAL COMMUNICATIONS COMMISSION

47 CFR Part 54

[WC Docket Nos. 10-90, 23-328, 14-58, 09-197; WT Docket No. 10-208; FCC 23-87; FR ID 277203]

Connect America Fund, Alaska Connect Fund, ETC Annual Reports and Certifications, Telecommunications Carriers Eligible To Receive Universal Service Support, Universal Service Reform—Mobility Fund

AGENCY: Federal Communications Commission.

ACTION: Final rule; announcement of effective date.

SUMMARY: In this document, the Federal Communications Commission (Commission) announces that the Office of Management and Budget (OMB) has approved, for a period of three years, an information collection associated with the rules for the Connect America Fund contained in the Commission's Connect America Fund Order (Order) of April 10, 2024. This document is consistent with the Order, which stated that the Commission would publish a document in the Federal Register announcing the effective date of the revised information collection requirements.

DATES: The amendments to 54.313(a) by adding subsection (a)(6)(i),(ii)(iii) and (iv), and revising 54.313(j) and adding subsections 54.313(j)(3), (j)(3)(i) and (j)(3)(ii), published at 89 FR 25147, on April 10, 2024 are effective February 24, 2025.

FOR FURTHER INFORMATION CONTACT: Jesse Jachman, Wireline Competition Bureau at (202) 418-7400 or TTY (202) 418-0484. For additional information concerning the Paperwork Reduction Act information collection requirements contact Nicole Ongele at (202) 418-2991 or via email at Nicole.Ongele@fcc.gov.

SUPPLEMENTARY INFORMATION: The Commission submitted revised information collection requirements for review and approval by OMB, as required by the Paperwork Reduction Act (PRA) of 1995, on September 23, 2024. OMB approved the revised information collection requirements on November 5, 2024. The information collection requirements are contained in the Commission's Connect America Fund Order, WC Docket No. 10-90 et al., FCC 23-87, published at 89 FR 25147, April 10, 2024. The OMB Control Number is 3060-1265. The Commission publishes this document as an announcement of the effective date of the rules published on April 10, 2024. If you have any comments on the burden estimates listed in the following, or how the Commission can improve the collections and reduce any burdens caused thereby, please contact Nicole Ongele, Federal Communications Commission, 45 L Street NE, Washington, DC 20554. Please include the OMB Control Number, 3060-1265, in your correspondence. The Commission will also accept your comments via email at PRA@fcc.gov. To request materials in accessible formats for people with disabilities (Braille, large print, electronic files, audio format), send an email to fcc504@fcc.gov or call the Consumer and Governmental Affairs Bureau at (202) 418-0530 (voice).

Synopsis

As required by the Paperwork Reduction Act of 1995 (44 U.S.C. 3507), the Commission is notifying the public that it received OMB approval on November 5, 2024, for the amendments to 54.313(a) by adding subsection (a)(6)(i),(ii)(iii) and (iv), and revising 54.313(j) and adding subsections 54.313(j)(3), (j)(3)(i) and (j)(3)(ii), published at 89 FR 25147, April 10, 2024.

Under 5 CFR part 1320, an agency may not conduct or sponsor a collection of information unless it displays a current, valid OMB Control Number.

No person shall be subject to any penalty for failing to comply with a collection of information subject to the Paperwork Reduction Act that does not display a current, valid OMB Control Number. The OMB Control Number is 3060-1265.

The foregoing notice is required by the Paperwork Reduction Act of 1995, Public Law 104-13, October 1, 1995, and 44 U.S.C. 3507.

The total annual reporting burdens and costs for the respondents are as follows:

OMB Control Number: 3060-1265.

OMB Approval Date: November 5, 2024.

OMB Expiration Date: November 30, 2027.

Title: Administrative Order—Performance Testing Measures.

Form Number: N/A.

Type of Review: Revision of a currently approved collection.

Respondents: Business or other for-profit.

Number of Respondents and Responses: 1,705 unique respondents; 7,681 responses.

Estimated Time per Response: 15-23 hours.

Frequency of Response: Biennial reporting requirements, quarterly reporting requirements and annual reporting requirements.

Obligation to Respond: Required to obtain or retain benefits. Statutory authority for this information collection is contained in 47 U.S.C. 151-154, 155, 201-206, 214, 218-220, 251, 252, 254, 256, 303(r), 332, 403, 405, 410, and 1302.

Total Annual Burden: 170,620 hours.

Total Annual Cost: No Cost.

Needs and Uses: In the USF/ICC Transformation Order, the Commission laid the groundwork for today's universal service programs providing $4.5 billion in support for broadband internet deployment in high-cost areas. Connect America Fund, et al., WC Docket No. 10-90, et al., Report and Order and Further Notice of Proposed Rulemaking, 26 FCC Rcd 17663 (2011) (USF/ICC Transformation Order). The USF/ICC Transformation Order required, among other things, that high-cost universal service recipients “test their broadband networks for compliance with speed and latency metrics and certify to and report the results to the Universal Service Administrative Company (USAC) on an annual basis.” Id. at 17705, para. 109. Pursuant to the Commission's direction in that Order, the Wireline Competition Bureau, the Wireless Telecommunications Bureau, and the Office of Engineering and Technology (the Bureaus and OET) adopted more specific methodologies for such testing in the Performance Measures Order. See generally Performance Measures Order. See also 47 CFR 54.313(a)(6) (requiring that recipients of high-cost support provide “[t]he results of network performance tests pursuant to the methodology and in the format determined by the Wireline Competition Bureau, Wireless Telecommunications Bureau, and Office of Engineering and Technology”). Addressing petitions for reconsideration, the Bureaus and OET adopted certain modifications and clarifications to the requirements pertaining to high-latency bidders in the Connect America Fund (CAF) Phase II auction, and the Commission refined the general testing requirements further. See generally Connect America Fund, WC Docket No. 10-90, Order on Reconsideration, DA 19-911 (WCB/WTB/OET 2019) (Satellite-Related Performance Measures Order); Performance Measures Reconsideration Order. In the High Cost Administrative Order, the Commission adopted a quarterly reporting and certification schedule, replacing the previous annual requirement, such that all carriers receiving high-cost support are required to report and certify their quarterly performance testing results within two weeks, rather than within one week, after the end of the quarter in which the tests are conducted. See High Cost Administrative Order, FCC 25-87, para. 138. Accordingly, this collection includes the requirements for testing speed and latency, and reporting and certifying such performance measures within two weeks after the end of each quarter to ensure that carriers are meeting the public interest obligations associated with their receipt of high-cost universal service support.

Carriers will identify, from among the locations they have already submitted and certified in USAC's High Cost Universal Broadband (HUBB) portal, the locations where they have an active subscriber (deployment locations are reported under OMB Control Number 3060-1228, and active locations will be reported under this control number). From those subscriber locations, USAC will then select a random sample from which the carrier will be required to perform testing for speed and latency. Carriers that do not provide location information in the HUBB will use a randomization tool provided by USAC to select a random sample of locations for testing. Due to the rule changes that the Commission adopted on the High Cost Administrative Order, the carrier will then be required to submit to USAC the results of the testing on a quarterly basis. The quarterly filing will include the testing results from the prior quarter. The carrier's sample for each service tier (e.g., 10 Mbps/1 Mbps, 25 Mbps/3 Mbps) shall be regenerated every two years. During the two-year cycle, carriers will have the ability to add and remove subscriber locations if necessary, e.g., as subscribership changes. Also, in July 2023, the Commission adopted the Enhanced Alternative-Connect America Cost Model (E-ACAM) support mechanism, a new model-based offer to existing Alternative-Connect America Cost Model (A-CAM) I, A-CAM II, and Connect America Fund Broadband Loop Support (CAF BLS) carriers. See Connect America Fund: A National Broadband Plan for Our Future High-Cost Universal Service Support et al., WC Docket No. 10-90 et al., Report and Order, Notice of Proposed Rulemaking, and Notice of Inquiry, FCC 23-60, at 23-24, para. 49 (July 24, 2023). Revisions include (1) a process for E-ACAM carriers to get a performance measures testing sample from non-HUBB reported locations, and (2) and reporting and certifying such performance measures within two weeks after the end of each quarter.

Federal Communications Commission.
Marlene Dortch,
Secretary.

[FR Doc. 2025-02958 Filed 2-21-25; 8:45 am]

BILLING CODE 6712-01-P